DEPARTMENT OF LABOR

Employment and Training Administration

Labor Certification for the Permanent Employment of Aliens in the United States; Establishment of E-Mail Address for Receipt of Reports of Potential Non-Compliance

AGENCY: Employment and Training Administration, Labor.

ACTION: Notice.

SUMMARY: The Department of Labor (DOL or Department) is publishing an e-mail address for the receipt and processing of reports of potential violations of its recently published Final Rule seeking to protect the integrity of the permanent labor certification program and reduce incentives for fraud and abuse.

FOR FURTHER INFORMATION CONTACT: William L. Carlson, Administrator, Office of Foreign Labor Certification, 200 Constitution Avenue, NW., Washington, DC 20210; telephone (202) 693-3010 (this is not a toll-free number). Individuals with hearing or speech impairments may access the telephone number above via TTY by calling the toll-free Federal Information Relay Service at (800) 877-8339.

SUPPLEMENTARY INFORMATION: On May 17, 2007, the Department published a Final Rule to protect the integrity of the permanent labor certification program, to reduce the incentives and opportunities for fraud, and to further fulfill the Department's statutory obligation to protect the wages and working conditions of U.S. workers. 72 FR 27904 (May 17, 2007). As part of that Rule, the Department informed the public it was considering the establishment of a toll-free telephone number, or development of other means, to receive reports on potential non-compliance with the Final Rule's provisions.

The Department continues its consideration of a toll-free number, and has determined that as an initial matter, employers, foreign workers, U.S. workers, and others who wish to submit information on potential violations may do so through an e-mail box: laborcert.fraud@dol.gov.

This box will be monitored for reports of alleged non-compliance with the regulations governing the permanent labor certification program. The Employment and Training Administration will determine an appropriate course of action for each report, and may refer individual inquiries to DOL's Employment Standards Administration, the DOL Office of Inspector General, the Department of Homeland Security, and/or other authorities. If appropriate, DOL may determine that no response is required.

Signed at Washington, DC, this 30 day of July, 2007.
Emily Stover Derocco,
Assistant Secretary, Employment and Training Administration.

[FR Doc. E7-14989 Filed 8-1-07; 8:45 am]

BILLING CODE 4510-FP-P